DEPARTMENT OF ENERGY

Federal Energy Regulatory Commission

Combined Notice of Filings #1

October 6, 2005.

Take notice that the Commission received the following electric rate filings.

Docket Numbers: ER00-1053-016.

Applicants: Maine Public Service Company.

Description: Maine Public Service Co informs the Commission on the status of negotiations re its June 15, 2005 informational filing setting forth the changed open access transmission tariff charges effective June 1, 2005.

Filed Date: October 3, 2005.

Accession Number: 20051006-0083.

Comment Date: 5 p.m. eastern time on Monday, October 24, 2005.

Docket Numbers: ER00-744-005; ER00-1712-007; ER00-1703-002; ER02-1327-004.

Applicants: PPL Pennsylvania Companies; PPL Electric Utilities Corp.; PPL EnergyPlus, LLC; PPL University Park, LLC.

Description: PPL Pennsylvania Companies, et al submit a compliance filing pursuant to the Order Conditionally Accepting Updated Market Power Analysis and Tariff Sheets, Commission Order issued September 1, 2005.

Filed Date: October 3, 2005.

Accession Number: 20051006-0089.

Comment Date: 5 p.m. eastern time on Monday, October 24, 2005.

Docket Numbers: ER05-1195-002.

Applicants: Silverhill Ltd.

Description: Silverhill Ltd submits amended FERC Electric Tariff Original Volume No. 1 to include language regarding change of status reporting requirements filed July 29, 2005.

Filed Date: October 3, 2005.

Accession Number: 20051006-0086

Comment Date: 5 p.m. eastern time on Monday, October 24, 2005.

Docket Numbers: ER05-1525-000.

Applicants: New England Power Company.

Description: New England Power Co submits amended Large Generator Interconnection Agreements with Dominion Energy Brayton Point, LLC and Dominion Energy Salem Harbor, LLC.

Filed Date: September 30, 2005.

Accession Number: 20051004-0069.

Comment Date: 5 p.m. eastern time on Friday, October 21, 2005.

Docket Numbers: ER05-1533-000.

Applicants: California Independent System Operator Corporation.

Description: California Independent System Operator Corp submits amended rate schedule sheets to Amendment No. 4, Attachment B of the Septemberr 30, 2005 filing Access No. 20051004-0215.

Filed Date: October 3, 2005.

Accession Number: 20051005-0033.

Comment Date: 5 p.m. eastern time on Monday, October 24, 2005.

Docket Numbers: ER05-881-002.

Applicants: Midwest Independent Transmission System Operator, Inc.

Description: Midwest Independent Transmission System Operator, Inc submits amended large generator interconnection agreement.

Filed Date: October 3, 2005.

Accession Number: 20051006-0088.

Comment Date: 5 p.m. eastern time on Monday, October 24, 2005.

Docket Numbers: ER05-953-002.

Applicants: Phelps Dodge Power Marketing, LLC.

Description: Phelps Dodge Power Marketing, LLC submits Revised Substitute Original Sheet No. 3, to FERC Electric Tariff, Original Volume No. 1, which replaces the filing of September 1, 2005 Accession No. 20050907-0054.

Filed Date: September 27, 2005.

Accession Number: 20050929-0104.

Comment Date: 5 p.m. eastern time on Tuesday, October 18, 2005.

Docket Numbers: ER06-1-000.

Applicants: Leaning Juniper Wind Power, LLC.

Description: Leaning Juniper Wind Power, LLC submits its initial rate schedule, a request for the granting of authorizations & blanket authority, and for waiver of certain requirements.

Filed Date: October 3, 2005.

Accession Number: 20051005-0019.

Comment Date: 5 p.m. eastern time on Monday, October 24, 2005.

Docket Numbers: ER06-2-000.

Applicants: American Transmission Systems, Inc.

Description: American Transmission Systems Incorporated submits a Construction Agreement dated July 29, 2002 to establish two new 138kV delivery points with the Toledo Edison Co et al with a proposed effective date of October 3, 2005.

Filed Date: October 3, 2005.

Accession Number: 20051005-0018.

Comment Date: 5 p.m. eastern time on Monday, October 24, 2005.

Docket Numbers: ER06-3-000.

Applicants: New England Power Pool.

Description: The New England Power Pool Participants Committee submits signature pages of the New England Power Pool Agreement dated as of September 1, 1971 as amended, executed with BJ Energy LLC and Wheelabrator North Andover, Inc.

Filed Date: October 3, 2005.

Accession Number: 20051005-0021.

Comment Date: 5 p.m. eastern time on Monday, October 24, 2005.

Docket Numbers: ER06-4-000.

Applicants: Michigan Electric Transmission Co., LLC.

Description: Michigan Electric Transmission Co LLC submits an Interconnection Facilities Agreement with Wolverine Power Supply Cooperative Inc and requests an effective date of October 4, 2005.

Filed Date: October 3, 2005.

Accession Number: 20051005-0030.

Comment Date: 5 p.m. eastern time on Monday, October 24, 2005.

Docket Numbers: ER06-5-000.

Applicants: CBK Group, LTD.

Description: CBK Group, LTD's petition for acceptance of an amended rate schedule, waivers and blanket authority.

Filed Date: October 3, 2005.

Accession Number: 20051005-0029.

Comment Date: 5 p.m. eastern time on Monday, October 24, 2005.

Docket Numbers: ER99-3491-006; ER00-2185-004; ER00-2184-004.

Applicants: PPL Montana, LLC; PPL Colstrip I, LLC; PPL Colstrip II, LLC.

Description: PPL Montana, LLC, PPL Colstrip I, LLC, and PPL Colstrip II, LLC submit an updated market power analysis in compliance with Commission's Order issued September 1, 2005.

Filed Date: October 3, 2005.

Accession Number: 20051006-0087.

Comment Date: 5 p.m. eastern time on Monday, October 24, 2005.

Any person desiring to intervene or to protest in any of the above proceedings must file in accordance with Rules 211 and 214 of the Commission's Rules of Practice and Procedure (18 CFR 385.211 and 385.214) on or before 5 p.m. eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other and the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Magalie R. Salas,
Secretary.

[FR Doc. E5-5852 Filed 10-21-05; 8:45 am]

BILLING CODE 6717-01-P